DEPARTMENT OF COMMERCE

International Trade Administration

[A-570-888]

Floor-Standing, Metal-Top Ironing Tables and Certain Parts Thereof From the People's Republic of China: Preliminary Results of Antidumping Duty Administrative Review

AGENCY: Import Administration, International Trade Administration, Department of Commerce.

SUMMARY: In response to requests from interested parties, the Department of Commerce (the Department) is conducting an administrative review of the antidumping duty order on floor-standing, metal-top ironing tables and certain parts thereof (ironing tables) from the People's Republic of China (PRC). The period of review (POR) is August 1, 2009 through July 31, 2010. We have preliminarily determined that respondent Foshan Shunde Yongjian Housewares & Hardware Co., Ltd. (Foshan Shunde) has made sales to the United States of the subject merchandise at prices below normal value (NV). We invite interested parties to comment on these preliminary results. Parties filing comments are requested to submit with each argument (1) a statement of the issue and (2) a brief summary of the argument(s).

DATES: Effective Date: September 7, 2011.

FOR FURTHER INFORMATION CONTACT: Michael J. Heaney or Robert James, AD/CVD Operations, Office 7, Import Administration, International Trade Administration, U.S. Department of Commerce, 14th Street and Constitution Avenue, NW., Washington, DC 20230; telephone: (202) 482-4475 or (202) 482-0649, respectively.

SUPPLEMENTARY INFORMATION:

Background

On August 6, 2004, the Department published in the Federal Register the antidumping duty order regarding ironing tables from the PRC. See Notice of Amended Final Determination of Sales at Less Than Fair Value and Antidumping Duty Order: Floor-Standing, Metal-Top Ironing Tables and Certain Parts Thereof From the People's Republic of China, 69 FR 47868 (August 6, 2004) (Amended Final and Order).

On August 2, 2010, the Department published a notice of opportunity to request an administrative review of the antidumping duty order on, inter alia, ironing tables from the PRC. See Antidumping or Countervailing Duty Order, Finding, or Suspended Investigation; Opportunity to Request Administrative Review, 75 FR 45094 (August 2, 2010). On August 31, 2010, Home Products International (the Petitioner in this proceeding) and Foshan Shunde requested, in accordance with 19 CFR 351.213(b)(1), an administrative review of this order for Foshan Shunde.

On September 29, 2010, the Department initiated an administrative review of Foshan Shunde. See Initiation of Antidumping and Countervailing Duty Administrative Reviews and Requests for Revocation in Part, 75 FR 60076 (September 29, 2010).

On May 4, 2011, in accordance with section 751(a)(3)(A) of the Tariff Act of 1930, as amended (the Act), and 19 CFR 351.213(h)(2), the Department extended the deadline for the preliminary results of review until August 31, 2011. See Floor-Standing, Metal-Top Ironing Tables and Certain Parts Thereof from the People's Republic of China: Extension of the Time Limit for the Preliminary Results of the Administrative Review, 76 FR 25301 (May 4, 2011).

The Department issued its original antidumping questionnaire to Foshan Shunde on October 4, 2010. Foshan Shunde timely filed its response to Section A of the questionnaire on November 12, 2010; Foshan Shunde's Sections C and D responses followed on November 19, 2010 and November 30, 2010 respectively. Petitioner filed comments on Foshan Shunde's sections A, C and D responses on January 12, 2011, May 17, 2011, July 28, 2011 and July 8, 2011.

The Department issued supplementary questionnaires to Foshan Shunde on March 30, 2011, June 2, 2011, and July 13, 2011. Foshan Shunde timely responded to each of these supplemental requests for information on May 2, 2011, June 23, 2011, and July 29, 2011.

Surrogate Country and Surrogate Value Data

On July 8, 2011 the Department issued a memorandum on surrogate country selection and surrogate value (SV) data. See Memorandum from Carole Showers, Director Office of Policy to Richard Weible, Director Office 7, Re: Request for a List of Surrogate Countries for an Administrative Review of the Antidumping Duty Order on Floor-Standing, Metal-Top, Ironing Tables and Parts Thereof from the People's Republic of China (“PRC”): Surrogate Country List, dated June 8, 2011 (Surrogate Country List). On June 10, 2011 the Department distributed the Surrogate Country List Memorandum to interested parties via e-mail. On July 8, 2011, the Petitioner submitted information to value factors of production (FOP) from Indonesia. See Petitioner July 8, 2011 letter. On July 22, 2011, Foshan Shunde submitted suggested FOPs from India. See Foshan Shunde July 22, 2011, letter. For the reasons explained infra, the Department has determined that Indonesia is an appropriate surrogate country for purposes of this review. Accordingly, all the surrogate values used to value FOPs were obtained from sources in Indonesia.

Scope of the Order

For purposes of this order, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this review.

Furthermore, this order specifically covers imports of ironing tables, assembled or unassembled, complete or incomplete, and certain parts thereof. For purposes of this order, the term “unassembled” ironing table means a product requiring the attachment of the leg assembly to the top or the attachment of an included feature such as an iron rest or linen rack. The term “complete” ironing table means product sold as a ready-to-use ensemble consisting of the metal-top table and a pad and cover, with or without additional features, e.g., iron rest or linen rack. The term “incomplete” ironing table means product shipped or sold as a “bare board”—i.e., a metal-top table only, without the pad and cover—with or without additional features, e.g., iron rest or linen rack. The major parts or components of ironing tables that are intended to be covered by this order under the term “certain parts thereof” consist of the metal top component (with or without assembled supports and slides) and/or the leg components, whether or not attached together as a leg assembly. The order covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables are currently classifiable under Harmonized Tariff Schedule of the United States (HTSUS) subheading 9403.20.0011. The subject metal top and leg components are classified under HTSUS subheading 9403.90.8041. Although the HTSUS subheadings are provided for convenience and for Customs and Border Protection (CBP) purposes, the Department's written description of the scope remains dispositive.

Non-Market-Economy Status

In every case conducted by the Department involving the PRC, the PRC has been treated as a non-market economy (NME). In accordance with section 771(18)(C)(i) of the Act, any determination that a foreign country is an NME country shall remain in effect until revoked by the administering authority. See, e.g., Brake Rotors from the People's Republic of China: Final Results and Partial Rescission of the 2004/2005 Administrative Review and Notice of Rescission of 2004/2005 New Shipper Review, 71 FR 66304 (November 14, 2006). None of the parties to this administrative review has contested such treatment or provided such information that would overturn that designation. Accordingly, we calculated NV in accordance with section 773(c) of the Act, which applies to NME countries.

Surrogate Country

When the Department investigates imports from an NME country and available information does not permit the Department to determine NV pursuant to section 773(a) of the Act, then, pursuant to section 773(c)(4) of the Act, the Department bases NV on an NME producer's FOPs to the extent possible, in one or more market-economy countries that (1) are at a level of economic development comparable to that of the NME country, and (2) are significant producers of comparable merchandise. The Department determined the Philippines, Indonesia, Ukraine, Thailand, Colombia and South Africa are countries comparable to the PRC in economic development. (See Surrogate Country List).

Based on publicly available information placed on the record by interested parties (e.g., production data), the Department determines Indonesia to be a reliable source for surrogate values. Indonesia is at a comparable level of economic development pursuant to section 773(c)(4) of the Act. Id. Moreover, Indonesia is a significant producer of the subject merchandise. See Petitioner July 8, 2011, submission at Exhibit 1. Additionally, Indonesia has publicly available and reliable data. See Memorandum to the File through Robert James, Program Manager Office 7 from Michael J. Heaney International Trade Analyst: Antidumping Duty Administrative Review of Floor-Standing, Metal Top Ironing Tables and Certain Parts Thereof from the People's Republic of China, dated August 31, 2011 (Factors Valuation Memorandum). Accordingly because Indonesia meets all of the Department's criteria for selection as a surrogate country, the Department has selected Indonesia for purposes of valuing FOP surrogate values.

Separate Rates

In proceedings involving NME countries, the Department has a rebuttable presumption that all companies within the country are subject to government control and, thus, should be assigned a single antidumping duty rate. It is the Department's policy to assign all exporters of subject merchandise in an NME country this single rate unless an exporter can demonstrate that it is sufficiently independent so as to be entitled to a separate rate. See Policy Bulletin 05.1: Separate Rates Practice and Application of Combination Rates in Antidumping Investigations involving Non-Market Economy Countries, available at http://ia.ita.gov/policy/bull05-1.pdf (Policy Bulletin O5:1). Exporters can demonstrate this independence through the absence of both de jure and de facto governmental control over export activities. The Department analyzes each entity exporting the subject merchandise under a test arising from the Final Determination of Sales at Less Than Fair Value: Sparklers from the People's Republic of China, 56 FR 20588 at Comment 1 (May 6, 1991) (Sparklers). This concept was further developed in Notice of Final Determination of Sales at Less Than Fair Value: Silicon Carbide from the People's Republic of China, 59 FR 22585 (May 2, 1994) (Silicon Carbide). However, if the Department determines that a company is wholly foreign-owned or located in a market economy, then a separate rate analysis is unnecessary to determine whether it is independent from government control. See Policy Bulletin 05:1 at 5.

Accordingly, we have considered whether Foshan Shunde is independent from government control, and therefore eligible for a separate rate. The Department's separate-rate test to determine whether the exporters are independent from government control does not consider, in general, macroeconomic/border-type controls, e.g., export licenses, quotas, and minimum export prices, particularly if these controls are imposed to prevent dumping. See Notice of Final Determination of Sales at Less Than Fair Value: Certain Preserved Mushrooms from the People's Republic of China, 63 FR 72255, 72256 (December 31, 1998). The test focuses, rather, on controls over the investment, pricing, and output decision-making process at the individual firm level. See, e.g., Notice of Final Determination of Sales at Less than Fair Value: Certain Cut-to-Length Carbon Steel Plate from Ukraine, 62 FR 61754, 61758 (November 19, 1997); see also Tapered Roller Bearings and Parts Thereof, Finished and Unfinished, From the People's Republic of China; Final Results of Antidumping Duty Administrative Review, 62 FR 61276, 61279 (November 17, 1997).

Foshan Shunde provided complete separate-rate information in its response to our original and supplemental questionnaires. Accordingly, we performed a separate-rates analysis to determine whether Foshan Shunde is independent from government control.

Absence of De Jure Control

The Department considers the following de jure criteria in determining whether an individual company may be granted a separate rate: (1) An absence of restrictive stipulations associated with an individual exporter's business and export licenses; (2) any legislative enactments decentralizing control of companies; and (3) other formal measures by the government decentralizing control of companies. See Sparklers, 56 FR 20588 at Comment 1. The evidence provided by Foshan Shunde supports a preliminary finding of de jure absence of control based on the following: (1) An absence of restrictive stipulations associated with its business and export licenses; (2) applicable legislative enactments decentralizing control of companies; and (3) formal measures (e.g., the Foreign Trade Law) decentralizing control of companies. See, e.g., Foshan Shunde November 12, 2010, Section A questionnaire response at pages at A-4-A-5.

Absence of De Facto Control

Typically, the Department considers four factors in evaluating whether a respondent is subject to de facto government control of its export functions: (1) Whether the export prices are set by, or subject to, the approval of a government authority; (2) whether the respondent has authority to negotiate and sign contracts and other agreements; (3) whether the respondent has autonomy from the government in making decisions regarding the selection of its management; and (4) whether the respondent retains the proceeds of its export sales and makes independent decisions regarding disposition of profits or financing of losses. See Silicon Carbide, 59 FR 22857; see also Notice of Final Determination of Sales at Less Than Fair Value: Furfuryl Alcohol from the People's Republic of China, 60 FR 22544 (May 8, 1995). The Department has determined that an analysis of de facto control is critical in determining whether respondents are, in fact, subject to a degree of governmental control which would preclude the Department from assigning separate rates.

The evidence provided by Foshan Shunde supports a preliminary finding of de facto absence of government control based on the following: (1) The absence of evidence that the export prices are set by or are subject to the approval of a government agency; (2) the respondent has authority to negotiate and sign contracts and other agreements; (3) the respondent has autonomy from government in making decisions regarding the selection of management; and (4) the respondent retains the proceeds of its export sales and make independent decisions regarding disposition of profits or financing of losses. See Foshan Shunde November 12, 2010, Section A questionnaire response at A-7 through A-9.

In accordance with the criteria identified in Sparklers and Silicon Carbide, the evidence placed on the record of this review by Foshan Shunde demonstrates an absence of de jure and de facto government control with respect to Foshan Shunde's exports of the subject merchandise. Accordingly, we have determined that Foshan Shunde has demonstrated eligibility for a separate rate.

Fair Value Comparisons

To determine whether the respondent's sales of the subject merchandise to the United States were made at prices below NV, we compared its United States prices to normal values, as described in the “U.S. Price” and “Normal Value” sections of this notice. See section 773(a) of the Act.

U.S. Price

Export Price

We based U.S. price for Foshan Shunde on export price (EP) in accordance with section 772(a) of the Act because the first sale to an unaffiliated purchaser was made prior to importation, and constructed export price (CEP) was not otherwise warranted by the facts on the record. We calculated EP based on the packed price from the exporter to the first unaffiliated customer in the United States. We deducted foreign inland freight, and foreign brokerage and handling expenses from the starting price (gross unit price), in accordance with section 772(c) of the Act. Where appropriate, we made an addition to U.S. price for billing adjustments.

Foshan Shunde incurred foreign inland freight and foreign brokerage and handling expenses from PRC service providers. We therefore valued these services using Indonesian surrogate values (see “Factors of Production” section below for further discussion).

Normal Value

Factors of Production (FOPs)

Section 773(c)(1) of the Act provides that the Department shall determine NV using an FOP methodology if the merchandise is exported from an NME country and the Department finds that the available information does not permit the calculation of NV using home-market prices, third-country prices, or constructed value under section 773(a) of the Act. When determining NV in an NME context, the Department will base NV on FOPs because the presence of government controls on various aspects of these economies renders price comparisons and the calculation of production costs invalid under our normal methodologies. The Department's questionnaires required Foshan Shunde to provide information regarding its weighted-average FOP.

In accordance with 19 CFR 351.408(c)(1), the Department will normally use publicly available information to find an appropriate SV to value FOPs, but when a producer sources an input from a market economy and pays for it in market-economy currency, the Department may value the factor using the actual price paid for the input. See 19 CFR 351.408(c)(1); see also Shakeproof Assembly Components, Div. of Ill. Tool Works, Inc. v. United States, 268 F. 3d 1376, 1382-1383 (Fed. Cir. 2001) (affirming the Department's use of market-based prices to value FOPs). During the POR, Foshan Shunde reported that it purchased a certain production material from a market economy supplier. See Foshan Shunde November 30, 2010, Section D response at Exhibit D-2 (because of the proprietary nature of this information, we do not summarize it here). Foshan Shunde further claimed that it purchased more than 33 percent of its total volume of this particular input from a market economy supplier. However, in response to our requests for further information concerning this input, Foshan Shunde was unable to establish that the production input was indeed of market economy origin. Accordingly, we used the Indonesian surrogate value of the input to value this FOP. See August 31, 2011, Memorandum from Michael Heaney to the File: “Foshan Shunde Yongjian Housewares & Hardware Co., Ltd. (Foshan Shunde) Analysis Memorandum for the Preliminary Results” (Preliminary Analysis Memorandum) at pages 3-4.

We calculated NV based on FOPs in accordance with section 773(c)(3) and (4) of the Act and 19 CFR 351.408(c). The FOPs include but are not limited to: (1) Hours of labor required; (2) quantities of raw material employed; (3) amounts of energy and other utilities consumed; and (4) representative capital costs. The Department used FOPs reported by Foshan Shunde for materials, energy, by-products, and packing. To calculate NV, we multiplied the reported unit factor quantities by publicly available values in the surrogate country, Indonesia. As explained infra, to value labor, we used the industry specific labor rate for schedule 28 release 5B for Indonesia.

Foshan Shunde reported by-product sales. Consistent with the Department's determination in the investigation of Diamond Sawblades from the PRC, we will deduct the surrogate value of by-products sold from NV because the surrogate financial statements on the record of this administrative review contain no references to the treatment of by-products and because Foshan Shunde provided evidence to demonstrate sales of their by-products. See Final Determination of Sales at Less Than Fair Value and Final Partial Affirmative Determination of Critical Circumstances: Diamond Sawblades and Parts Thereof from the People's Republic of China, 71 FR 29303 (May 22, 2006) (Diamond Sawblades from the PRC), and accompanying Issues and Decision Memorandum at Comment 9, unchanged in Notice of Amended Final Determination of Sales at Less Than Fair Value: Diamond Sawblades and Parts Thereof from the People's Republic of China, 71 FR 35864 (June 22, 2006). This is consistent with accounting principles based on a reasonable assumption that if a company sells a by-product, the by-product necessarily incurs expenses for overhead, SG&A, and profit. Id.

In selecting the surrogate Indonesian values, we considered the quality, specificity, and contemporaneity of the data, in accordance with our normal practice. See, e.g., Electrolytic Manganese Dioxide from the People's Republic of China: Final Determination of Sales at Less Than Fair Value, 73 FR 48195 (August 18, 2008), and accompanying Issues and Decision Memorandum at Comment 2. The Department adjusted input prices by including freight costs to make them delivered prices, as appropriate. Specifically, the Department added to Indonesian import SVs a surrogate freight cost using the shorter of the reported distance from the domestic supplier to the factory, or the distance from the nearest seaport to the factory of production. This adjustment is in accordance with the decision of the U.S. Court of Appeals for the Federal Circuit in Sigma Corp. v. United States, 117 F. 3d 1401, 1407-08 (Fed. Cir. 1997). A detailed description of all SVs used to value Foshan Shunde's FOPs may be found in the Memorandum to the File through Robert James, Program Manager Office 7 from Michael J. Heaney International Trade Analyst: Antidumping Duty Administrative Review of Floor-Standing, Metal Top Ironing Tables and Certain Parts Thereof from the People's Republic of China, dated August 31, 2011 (Factors Valuation Memorandum).

The Department used Indonesian import data from the Global Trade Atlas (GTA) published by Global Trade Information Services, Inc., which is sourced from the Buku Tarif Bea Masuk Indonesia (BTBMI) to determine the surrogate values for most raw materials, by-products and packing material inputs. With regard to the Indonesian-based surrogate values, we have disregarded prices that we have reason to believe or suspect may be subsidized, such as those imports from India, South Korea, and Thailand. We have found in other proceedings that these countries maintain broadly available, non-industry-specific export subsidies and, therefore, it is reasonable to infer that all exports to all markets from these countries may be subsidized. See, e.g., Frontseating Service Valves from the People's Republic of China; Preliminary Determination of Sales at Less Than Fair Value, Preliminary Negative Determination of Critical Circumstances, and Postponement of Final Determination, 73 FR 62952, 62597 (October 22, 2008), unchanged in Frontseating Service Valves from the People's Republic of China; Final Determination of Sales at Less Than Fair Value, and Final Negative Determination of Critical Circumstances, 74 FR 10886 (March 13, 2009); and China National Machinery Import & Export Corporation v. United States, 293 F. Supp. 2d 1334, 1339 (CIT 2003), aff'd 104 Fed. Appx. 183 (Fed. Cir. 2004). We are also guided by the statute's legislative history that explains that it is not necessary to conduct a formal investigation to ensure that such prices are not subsidized. See Conference Report to the 1988 Omnibus Trade & Competitiveness Act, H.R. Rep. No 100-S-76 at 590 (1988) which stipulates that the Department will “avoid using any prices which it has reason to believe or suspect may be dumped or subsidized prices.” Rather, the Department bases its decisions on information that is available to it at the time it is making its determination. Therefore, we have not used prices from these countries in calculating the Indonesian import-based surrogate values. Additionally, we disregarded prices from NME countries. These countries include Armenia, Azerbaijan, Belarus, Georgia, Kyrgyzstan, Moldova, China, Tajikistan, Turkmenistan, Uzbekistan, and Vietnam. Finally, imports that were labeled as originating from an “unspecified” country were excluded from the averaging value, because the Department could not be certain that they were not from either an NME country or a country with general export subsidies.

Except as noted below, we valued raw material inputs using the weighted-average unit import values derived from the BTBMI, in the GTA, available at http://www.gtis.com/gta. All surrogate values used from the GTA are available on the record of this proceeding and are listed in the Factors Valuation Memorandum. Where we could not obtain publicly available information contemporaneous with the POR with which to value FOPs, we adjusted the surrogate values using, where appropriate, the Indonesian Wholesale Price Index as published in the International Financial Statistics of the International Monetary Fund. See Factors Valuation Memorandum at Attachment 1. We further adjusted these prices to account for freight expenses incurred between the input supplier and the respondent. For business proprietary factors, valuation descriptions are described in the Factors Valuation Memorandum.

The Department valued electricity using electricity price data for Indonesia specified in the World's Bank's 2003 Electricity for All: Options for Increasing Access in Indonesia, issued in 2003 (Electricity for All). Petitioner has placed a copy of Electricity for All on the record of this proceeding. See Petitioner's July 8, 2011, Surrogate Value Comments at Exhibit 3. The electricity rates reported represent actual, country-wide, publicly-available information on tax-exclusive electricity rates charged to small, medium, and large industries in Indonesia. To represent current electricity rates during the POR, we used the Indonesian Wholesale Price Index to inflate these values to POR price levels. See Factors Valuation Memorandum at page 5.

The Department valued water using data collected by the United Nations in 2006. See Human Development Report: Disconnected Poverty: Water Supply and Development in Jakarta, Indonesia (Water Supply and Development). Petitioner has placed a copy of Water Supply and Development on the record of this proceeding. See Petitioner's July 8, 2011, Surrogate Value Comments at Exhibit 6. We based the value for water on the 2005 value listed for large hotels, high-rise buildings, banks, and factories. To represent current water rates during the POR, we used the Indonesian Wholesale Price Index to inflate these values to POR price levels. See Factors Valuation Memorandum at page 5.

To calculate the labor input, we based our calculation on the methodology which the Department enunciated on June 21, 2011 in Antidumping Methodologies in Proceedings Involving Non-Market Economies Valuing the Factor of Production: Labor 76 FR 36092 (June 21, 2011) (Labor Methodologies). Prior to 2010, the Department used regression-based wages that captured the worldwide relationship between per capita Gross National Income and hourly manufacturing wages, pursuant to 19 CFR 351.408(c)(3). On May 3, 2010, the Federal Circuit, in Dorbest Ltd., v. United States, 604 F. 3d 1363, 1372 (Fed Cir. 2010) (Dorbest), invalidated part of that regulation. As a consequence of the Federal Circuit's ruling in Dorbest, the Department no longer relies on the regression-based methodology described in 19 CFR 351.408(c)(3).

In Labor Methodologies, the Department explained that the best methodology to value the labor input is to use industry-specific labor rates from the primary surrogate country. See Labor Methodologies at 76 FR at 36093. Additionally, the Department determined that the best data source for industry-specific labor rates is Chapter 6A: Labor Cost in Manufacturing, from the International Labor Organization (ILO) Yearbook of Labor Statistics (Yearbook). See Labor Methodologies at 76 FR at 36093-36094.

There are no Chapter 6A labor data available in this proceeding from Indonesia. Therefore, in these Preliminary Results, the Department has calculated the labor input using Indonesian Chapter 5B data which reflects direct compensation and bonuses. The Department finds that because Chapter 6A data are unavailable, it is preferable to use Chapter 5B data from Indonesia to remain consistent with the other data sources that we are relying on from the primary surrogate country. Also, the Department further finds the two digit description under ISIC-Revision 3 (Manufacture of Fabricated Metal Products, except Machinery and Equipment) to be the best available information on the record because it is specific to the industry being examined, and is therefore derived from industries that produce comparable merchandise. This is the same classification used in the prior review of this case when the Department also relied on Chapter 5B data under the Department's interim labor rate methodology. See Antidumping Methodologies in Proceedings Involving Non Market Economies Valuing the Factor of Production: Labor 76 FR 9544 (February 18, 2011). Accordingly, relying on Chapter 5B of the Yearbook, we calculated the labor data reported by Indonesia to the ILO to the Department under Sub-classification 28 of the ISIC-Revision 3 standard, in accordance with section 773(c)(4) of the Act. For these Preliminary Results, the calculated industry-specific wage rate is $0.5347 per hour. Because these data reflect direct compensation and bonuses and none of the indirect costs reflected in Chapter 6A data, we find that the facts and information on the record do not warrant or permit an adjustment to the surrogate financial statements. See Labor Methodologies at 76 FR at 36094. A more detailed description of the wage rate calculation methodology is provided in the Factors Valuation Memorandum.

The Department valued truck freight expenses using a per-unit average rate calculated from a 2001 study Cost of Investing and Doing Business in ASEAN (ASEAN Study). We used the Indonesian Wholesale Price Index to inflate these values to POR levels. The ASEAN Study is attached at Attachment 7 of the Factors Valuation Memorandum.

The Department valued brokerage and handling using the values published in Doing Business 2010: Indonesia by the World Bank. Petitioner has placed a copy of Doing Business 2010: Indonesia on the record of this proceeding. See Petitioner July 8, 2011, Surrogate Value Comments at Exhibit 10.

To value factory overhead, selling, general and administrative (SG&A) expenses, and profit the Department used the audited 2009 financial statements of PT Lion Metal Works Tbk (PT Lion). PT Lion is an Indonesian producer of Indonesian fabricated metal products which we find comparable to the subject merchandise. Petitioner placed upon the record of this proceeding, product brochures which describe the merchandise produced by PT Lion. See Petitioner July 8, 2011, letter at Exhibit 7. Many of the products produced by PT Lion are products which like the subject merchandise involve the fabrication of metal. Petitioner has placed a copy of the 2009 Financial Statements of PT Lion on the record of this proceeding. (See Petitioner July 8, 2011 Surrogate Value Comments at Exhibit 8).

We are preliminarily granting a by-product offset to Foshan Shunde for scrap steel sales. See Preliminary Analysis Memorandum at page 3.

Currency Conversion

Where necessary, the Department made currency conversions into U.S. dollars, in accordance with section 773(A) of the Act, based on the exchange rates in effect on the date of the U.S. sale, as certified by the Federal Reserve Board.

Preliminary Results of Review

We preliminarily determine that the following antidumping duty margin exists:

Exporter | Margin (percent)
Foshan Shunde Yongjian Housewares & Hardware Co., Ltd | 63.09

Assessment Rates

Pursuant to 19 CFR 351.212(b), the Department will determine, and CBP shall assess, antidumping duties on all appropriate entries. The Department will issue appropriate assessment instructions directly to CBP 15 days after the date of publication of the final results of this review. For assessment purposes, where possible, we calculated importer-specific ad valorem assessment rates for ironing tables from the PRC based on the ratio of the total amount of the dumping duties calculated for the examined sales to the total entered value of those same sales. We will instruct CBP to assess antidumping duties on all appropriate entries covered by this review if any assessment rate calculated in the final results of this review is above de minimis. The final results of this review shall be the basis for the assessment of antidumping duties on entries of merchandise covered by the final results of these reviews and for future deposits of estimated duties, where applicable.

Cash Deposit Requirements

The following cash deposit requirements will be effective upon publication of the final results of this administrative review for all shipments of the subject merchandise entered, or withdrawn from warehouse, for consumption on or after the publication date, as provided for by section 751(a)(2)(C) of the Act: (1) For the exporter listed above, the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 157.68 percent (see Amended Final and Order); and (4) for all non-PRC exporters of subject merchandise which have not received their own rate, the cash deposit rate will be the rate applicable to the PRC exporters that supplied that non-PRC exporter. These deposit requirements, when imposed, shall remain in effect until publication of the final results of the next administrative review.

Public Comment

The Department will disclose calculations performed in connection with the preliminary results of this review within five days of the date of publication of this notice in accordance with 19 CFR 351.224(b). Any interested party may request a hearing within 30 days of publication of this notice in accordance with 19 CFR 351.310(c). Any hearing will be held 37 days after the publication of this notice, or the first workday thereafter unless the Department alters the date pursuant to 19 CFR 351.310(d). Individuals who wish to request a hearing must submit a written request within 30 days of the publication of this notice in the Federal Register to the Assistant Secretary for Import Administration, U.S. Department of Commerce, pursuant to the Department's e-filing regulations. See https://iaaccess.trade.gov/help/IA%20ACCESS%20User%20Guide.pdf.

Requests for a public hearing should contain: (1) The party's name, address, and telephone number; (2) the number of participants; and (3) to the extent practicable, an identification of the arguments to be raised at the hearing.

Unless otherwise notified by the Department, interested parties may submit case briefs within 30 days of the date of publication of this notice in accordance with 19 CFR 351.309(c)(1)(ii). As part of the case brief, parties are encouraged to provide a summary of the arguments and a table of authorities cited in accordance with 19 CFR 351.309(c)(2). Rebuttal briefs, which must be limited to issues raised in the case briefs, must be filed within five days after the case brief is filed in accordance with 19 CFR 351.309(d). If a hearing is held, an interested party may make an affirmative presentation only on arguments included in that party's case brief and may make a rebuttal presentation only on arguments included in that party's rebuttal brief in accordance with 19 CFR 351.310(c). Parties should confirm by telephone the time, date, and place of the hearing within 48 hours before the scheduled time. The Department will issue the final results of this review, which will include the results of its analysis of issues raised in the briefs, not later than 120 days after the date of publication of this notice in accordance with section 751(a)(3)(A) of the Act and 19 CFR 351.213(h)(1).

Notification to Importers

This notice also serves as a preliminary reminder to importers of their responsibility under 19 CFR 351.402(f) to file a certificate regarding the reimbursement of antidumping duties prior to liquidation of the relevant entries during these review periods. Failure to comply with this requirement could result in the Secretary's presumption that reimbursement of antidumping duties occurred and the subsequent assessment of double antidumping duties.

These preliminary results of administrative review are issued and this notice is published in accordance with sections 751(a)(1) and 777(i)(1) of the Act.

Dated: August 31, 2011.
Ronald K. Lorentzen,
Deputy Assistant Secretary for Import Administration.

[FR Doc. 2011-22856 Filed 9-6-11; 8:45 am]

BILLING CODE 3510-DS-P